DEPARTMENT OF TRANSPORTATION

Federal Aviation Administration

14 CFR Part 71

[Docket No. FAA-2019-0109; Airspace Docket No. 19-ASO-2]

RIN 2120-AA66

Amendment of the Class D and Class E Airspace, Establishment of Class E Airspace, and Revocation of Class E Airspace; Louisville, KY

AGENCY: Federal Aviation Administration (FAA), DOT.

ACTION: Final rule.

SUMMARY: This action modifies the Class D airspace and Class E surface airspace at Bowman Field, Louisville, KY; establishes Class E surface airspace designated as an extension to a Class C surface area at Louisville Muhammad Ali International Airport, Louisville, KY; revokes the Class E airspace designated as an extension to a Class D or Class E surface area at Bowman Field Airport; and modifies the Class E airspace extending upward from 700 feet above the surface at Louisville Muhammad Ali International Airport and Bowman Field Airport. This action is due to an airspace review caused by the decommissioning of the Bowman VHF omnidirectional range (VOR), which provided navigation information to the instrument procedures at this airport, as part of the VOR Minimum Operational Network (MON) Program. The name of the Louisville Muhammad Ali International Airport is also being updated to coincide with the FAA's aeronautical database.

DATES: Effective 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class D airspace and Class E surface airspace at Bowman Field, Louisville, KY; establishes Class E surface airspace designated as an extension to a Class C surface area at Louisville Muhammad Ali International Airport, Louisville, KY; revokes the Class E airspace designated as an extension to a Class D or Class E surface area at Bowman Field Airport; and modifies the Class E airspace extending upward from 700 feet above the surface at Louisville Muhammad Ali International Airport and Bowman Field Airport to support instrument flight rule operations at these airports.

History

The FAA published a notice of proposed rulemaking in the Federal Register (84 FR 35044; July 22, 2019) for Docket No. FAA-2019-0109 to amend the Class D airspace and Class E surface airspace at Bowman Field, Louisville, KY; establish Class E surface airspace designated as an extension to a Class C surface area at Louisville Muhammad Ali International Airport, Louisville, KY; revoke the Class E airspace designated as an extension to a Class D or Class E surface area at Bowman Field Airport; and amend Class E airspace extending upward from 700 feet above the surface at Louisville Muhammad Ali International Airport and Bowman Field Airport. Interested parties were invited to participate in this rulemaking effort by submitting written comments on the proposal to the FAA. No comments were received.

Subsequent to publication, the FAA discovered an error in the proposed amendment of the Class E airspace extending upward form 700 feet above the surface at Louisville Muhammad Ali International Airport, Louisville, KY. The extension “. . . and within 2.4 miles each side of the ILS localizer east course, extending from the 10-mile radius to 7 miles east of the LOM . . .” should have been removed in the proposed action and from the airspace legal description as it is no longer needed. Those errors are corrected in this action.

Class D and E airspace designations are published in paragraph 5000, 6002, 6003, 6004, and 6005, respectively, of FAA Order 7400.11D, dated August 8, 2019, and effective September 15, 2019, which is incorporated by reference in 14 CFR 71.1. The Class D and E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71 by:

Amending the Class D airspace to within a 4-mile radius (increased from a 3.9-mile radius) of Bowman Field Airport, Louisville, KY; and updating the name of the Louisville Muhammad Ali International Airport (previously Louisville International Airport), Louisville, KY, to coincide with the FAA's aeronautical database;

Amending the Class E surface airspace to within a 4-mile radius (increased from a 3.9-mile radius) of Bowman Field Airport to 2,200 feet MSL; adding an exclusion area above 2,200 MSL; and updating the name of the Louisville Muhammad Ali International Airport (previously Louisville International Airport) to coincide with the FAA's aeronautical database;

Establishing Class E surface airspace designated as an extension to a Class C surface area at Louisville Muhammad Ali International Airport extending within 1 mile each side of the 165° bearing of the Louisville Muhammad Ali International: RWY 35R-LOC extending from the 5-mile radius of Louisville Muhammad Ali International Airport to 5.5 miles south of the Louisville Muhammad Ali International: RWY 35R-LOC; and within 1 mile each side of the 165° bearing of the Louisville Muhammad Ali International: RWY 35L-LOC extending from the 5-mile radius of Louisville Muhammad Ali International Airport to 5.5 miles south of the Louisville Muhammad Ali International: RWY 35L-LOC; and within 1 mile each side of the 165° bearing of the Louisville Muhammad Ali International Airport extending from the 5-mile radius of Louisville Muhammad Ali International Airport to 5.5 miles south of the Louisville Muhammad Ali International Airport;

Removing the Class E airspace designated as an extension to Class D and Class E surface area at Bowman Field Airport, as it is no longer required;

And amending the Class E airspace extending upward from 700 feet above the surface to within a 7.5-mile radius (decreased from a 10-mile radius) of Louisville Muhammad Ali International Airport; removing the extension to the east of the LOM as it is no longer needed; within a 6.5-mile radius (decreased from a 10-mile radius) of Bowman Field Airport; and updating the name of Louisville Muhammad Ali International Airport to coincide with the FAA's aeronautical database.

This action is the result of an airspace review caused by the decommissioning of the Bowman VOR, which provided navigation information for the instrument procedures at these airports, as part of the VOR MON Program.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ASO KY D Louisville, KY [Amended]

Bowman Field Airport, KY

(Lat. 38°13′41″ N, long. 85°39′49″ W)

Louisville Muhammad Ali International Airport, KY

(Lat. 38°10′27″ N, long. 85°44′11″ W)

That airspace extending upward from the surface to but not including 2,200 feet MSL within a 4-mile radius of Bowman Field Airport, excluding that portion within the Louisville Muhammad Ali International Airport Class C airspace area, and excluding that portion south of the 081° bearing from Louisville Muhammad Ali International Airport, and also excluding that portion north of the Louisville Muhammad Ali International Airport Class C airspace area and west of a line drawn from lat. 38°11′28″ N, long. 85°42′01″ W direct thru the point where the 030° bearing from Louisville Muhammad Ali International Airport intersects the 5-mile radius from Louisville Muhammad Ali International Airport to the point of intersection with the 4-mile radius from Bowman Field Airport. This Class D airspace area is effective during the specific dates and times established in advance by a Notice to Airmen. The effective date and time will thereafter be continuously published in the Chart Supplement.

Paragraph 6002 Class E Airspace Areas Designated as a Surface Area.

* * * * *

ASO KY E2 Louisville, KY [Amended]

Bowman Field Airport, KY

(Lat. 38°13′41″ N, long. 85°39′49″ W)

Louisville Muhammad Ali International Airport, KY

(Lat. 38°10′27″ N, long. 85°44′11″ W)

That airspace extending upward from the surface to but not including 2,200 feet MSL within a 4-mile radius of Bowman Field Airport, excluding that portion within the Louisville Muhammad Ali International Airport Class C airspace area, and excluding that portion south of the 081° bearing from Louisville Muhammad Ali International Airport, and also excluding that portion north of the Louisville Muhammad Ali International Airport Class C airspace area and west of a line drawn from lat. 38°11′28″ N, long. 85°42′01″ W direct thru the point where the 030° bearing from Louisville Muhammad Ali International Airport intersects the 5-mile radius from Louisville Muhammad Ali International Airport to the point of intersection with the 4-mile radius from Bowman Field Airport. This Class E airspace area is effective during the specific dates and times established in advance by a Notice to Airmen. The effective date and time will thereafter be continuously published in the Chart Supplement.

Paragraph 6003 Class E Airspace Areas Designated as an Extension to a Class C Surface Area.

* * * * *

ASO KY E3 Louisville, KY [Established]

Louisville Muhammad Ali International Airport, KY

(Lat. 38°10′27″ N, long. 85°44′11″ W)

Louisville Muhammad Ali International: RWY 35R-LOC

(Lat. 38°11′21″ N, long. 85°43′55″ W)

Louisville Muhammad Ali International: RWY 35L-LOC

(Lat. 38°11′17″ N, long. 85°44′57″ W)

That airspace extending upward from the surface within 1 mile each side of the 165° bearing from the Louisville Muhammad Ali International: RWY 35R-LOC extending from the 5-mile radius of the Louisville Muhammad Ali International Airport to 5.5 miles south of the Louisville Muhammad Ali International: RWY 35R-LOC, and within 1 mile each side of the 165° bearing from the Louisville Muhammad Ali International: RWY 35L-LOC extending from the 5-mile radius of the Louisville Muhammad Ali International Airport to 5.5 miles south of the Louisville Muhammad Ali International: RWY 35L-LOC, and within 1 mile each side of the 165° bearing from the Louisville Muhammad Ali International Airport extending from the 5-mile radius of the Louisville Muhammad Ali International Airport to 5.5 miles south of the Louisville Muhammad Ali International Airport.

Paragraph 6004 Class E Airspace Areas Designated as an Extension to a Class D or Class E Surface Area.

* * * * *

ASO KY E4 Louisville Bowman Field, KY [Removed]

Paragraph 6005 Class E Airspace Areas Extending Upward From 700 Feet or More Above the Surface of the Earth.

* * * * *

ASO KY E5 Louisville, KY [Amended]

Louisville Muhammad Ali International Airport, KY

(Lat. 38°10′27″ N, long. 85°44′11″ W)

Bowman Field Airport, KY

(Lat. 38°13′41″ N, long. 85°39′49″ W)

That airspace extending upward from 700 feet above the surface within a 7.5-mile radius of Louisville Muhammad Ali International Airport, and within a 6.5-mile radius of Bowman Field Airport.

Issued in Fort Worth, Texas, on February 5, 2020.
Marty Skinner,
Acting Manager, Operations Support Group, ATO Central Service Center.

[FR Doc. 2020-02743 Filed 2-11-20; 8:45 am]

BILLING CODE 4910-13-P